DEPARTMENT OF TRANSPORTATION

Federal Railroad Administration

[Docket Number FRA-2013-0081]

Petition for Special Approval

Under part 211 of title 49 Code of Federal Regulations (CFR), this document provides the public notice that on June 6, 2019, the Association of American Railroads (AAR) petitioned the Federal Railroad Administration (FRA) for a special approval of certain industry standards in accordance with the Federal railroad safety regulations contained at 49 CFR 231.33, Procedure for special approval of existing industry safety appliance standards, and 49 CFR 231.35, Procedure for modification of an approved industry safety appliance standard for new railcar construction. FRA assigned the petition Docket Number FRA-2013-0081.

AAR, on behalf of itself and its member railroads, submitted a petition for special approval of existing industry safety appliance standards contained in 49 CFR part 231, and minor edits to AAR Standard S-2044 and its appendices that have been previously approved by FRA. Specifically, AAR requests approval of the standards and specifications delineated in AAR Standard S-2044, Appendices E3, Safety Appliances for Tank Cars with Side Ladders and Low Side-Mounted Hand Brakes, and E4, Safety Appliances for Tank Cars with End Ladders and Low Side-Mounted Handbrakes. Appendices E3 and E4 were not included in the version of AAR Standard S-2044 approved September 26, 2018, and are entirely new. Additionally, AAR seeks approval of minor edits to previously-approved S-2044 and its appendices, as shown in Attachment 2 to the petition. AAR S-2044 and its appendices have been developed to serve as requirements for safety appliance arrangements. The revised standard and its appendices are to be applied to new railroad freight cars, if approved by FRA.

A copy of the petition, as well as any written communications concerning the petition, is available for review online at www.regulations.gov and in person at the Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing about these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov/. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by September 27, 2019, will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-17228 Filed 8-12-19; 8:45 am]

BILLING CODE 4910-06-P